DEPARTMENT OF EDUCATION

RIN 1820-ZA14

Rehabilitation Continuing Education Programs

AGENCY: Office of Special Education and Rehabilitative Services, Department of Education.

ACTION: Notice of final priorities.

SUMMARY: The Assistant Secretary for the Office of Special Education and Rehabilitative Services announces priorities under the Rehabilitation Continuing Education Programs. The Assistant Secretary may use these priorities for competitions in fiscal year (FY) 2004 and in later years.

We take this action to focus on training in areas of national need. The purpose of these priorities is to select entities to provide leadership for the Institute on Rehabilitation Issues (IRI) topic study groups and to plan and conduct the National IRI Forum. We intend these priorities to meet the needs of our customers by improving the responsiveness of the IRI study process to changes in the field of vocational rehabilitation (VR).

EFFECTIVE DATE: These priorities are effective November 24, 2003.

FOR FURTHER INFORMATION CONTACT: Christine Marschall, U.S. Department of Education, 400 Maryland Avenue, SW., room 3325, Switzer Building, Washington, DC 20202-2649. Telephone: (202) 205-2779 or via Internet: Christine.Marschall@ed.gov.

If you use a telecommunications device for the deaf (TDD), you may call the TDD number at (202) 205-8133.

Individuals with disabilities may obtain this document in an alternative format (e.g., Braille, large print, audiotape, or computer diskette) on request to the contact person listed under FOR FURTHER INFORMATION CONTACT.

SUPPLEMENTARY INFORMATION: The Institute on Rehabilitation Issues (IRI) has operated for over 55 years, bringing together subject experts from across the field of disability to form Primary Study Groups (PSG) to research, study, and prepare a written summary on a nationally selected topic of interest. Each PSG's project is presented for final feedback, commentary, and editing suggestions at the National IRI Forum, an annual meeting held annually in Washington, DC, to solicit input from rehabilitation constituents, professionals and interested others. The final documents produced through the IRI are used widely throughout the field of public rehabilitation.

We published a notice of proposed priorities for this program in the Federal Register on June 19, 2003 (68 FR 36876). The notice of proposed priorities included a discussion of the significant issues and analysis used in the determination of these priorities.

Except for minor editorial and technical revisions, there are no differences between the notice of proposed priorities and this notice of final priorities.

Public Comment

In the notice of proposed priorities, we invited comments on the proposed priorities. We did not receive any comments.

Note: This notice does not solicit applications. In any year in which we choose to use one or more of these priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Priorities

Priority 1—Leadership of IRI Primary Study Group

This priority funds projects to lead a PSG on a topic selected by the IRI Planning Committee. Projects must demonstrate the ability to provide leadership to members of the PSG that results in the production of a high quality document in the assigned topic area. Projects must ensure that documents are relevant to the public rehabilitation system and to the work of VR counselors and accurately interpret and integrate the current body of knowledge of the selected topic contained in published professional research and demonstrations.

Specifically, projects must demonstrate an in-depth knowledge of and understanding of relevant current and emerging issues in the public rehabilitation system, the public VR program, and the continuing education needs of VR personnel and related professionals. Projects must have the demonstrated ability to direct a rehabilitation research investigation in cooperation with a variety of experienced participants.

Projects must provide leadership to all phases of the IRI process, including assisting PSG members to define the areas of focus for the designated topic, to identify and address the continuing education needs of personnel of the public rehabilitation system, and to plan and write the project document. Projects must ensure that the group product meets the expectation of the IRI Planning Committee in terms of content areas and depth of review. At the conclusion of the National IRI Forum, projects must submit the final version of the IRI document to the Rehabilitation Services Administration for approval. Projects must distribute the approved document to State VR agencies and to others in an accessible format on request for use in staff development, training, and service planning.

Projects must include a plan to meet the communication, coordination, logistical, and budgetary requirements necessary to conduct at least three in-person meetings of the PSG, one of which must take place at the National IRI Forum in Washington, DC, at the end of the project year.

Priority 2—Leadership of the National IRI Forum

This priority funds projects to plan and to lead the annual National IRI Forum of PSG members and other stakeholders in each year of the project period. Projects must demonstrate in-depth knowledge of current, relevant issues in the public rehabilitation system and of methods to facilitate professional development and continuing education activities. Project staff, in cooperation with the IRI Planning Committee, must identify and solicit key stakeholders to provide input and feedback on selected IRI topics, and facilitate discussion and input sessions of diverse individuals with a wide variety of backgrounds so that each of the two IRI PSGs receives feedback on its draft document in a collaborative and positive manner.

Projects must provide a detailed plan for all aspects of the planning and coordination of the meeting, including, but not limited to, facilitation of document feedback sessions, site planning, coordination of accommodations and travel for PSG members funded by the project, coordination of accommodations requested by other participants, and the provision of on-site support services, including the provision of reasonable accommodations upon request. Projects must include a description of a process and methods that will result in high quality input on the IRI documents presented for review.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 385 and 389.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 29 U.S.C. 772.

(Catalog of Federal Domestic Assistance Number 84.264A-3 Rehabilitation Continuing Education Programs)
Dated: October 17, 2003.
Robert H. Pasternack,
Assistant Secretary for Special Education and Rehabilitative Services.

[FR Doc. 03-26701 Filed 10-22-03; 8:45 am]

BILLING CODE 4000-01-P